NATIONAL LABOR RELATIONS BOARD

Sunshine Act Meetings: September 2011

Time and Dates:

All meetings are held at 2:30 p.m.

Tuesday, September 6;

Wednesday, September 7;

Thursday, September 8;

Tuesday, September 13;

Wednesday, September 14;

Thursday, September 15;

Tuesday, September 20;

Wednesday, September 21;

Thursday, September 22;

Tuesday, September 27;

Wednesday, September 28;

Thursday, September 29.

PLACE: Board Agenda Room, No. 11820, 1099 14th St., NW., Washington, DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

Dated: September 2, 2011.
Lester A. Heltzer,
Executive Secretary.

[FR Doc. 2011-22986 Filed 9-2-11; 4:15 pm]

BILLING CODE 7545-01-P